DEPARTMENT OF TRANSPORTATION

Federal Aviation Administration

Aviation Rulemaking Advisory Committee Meeting on Occupant Safety Issues

AGENCY: Federal Aviation Administration (FAA), DOT.

ACTION: Notice of public meeting.

SUMMARY: This notice announces a public meeting of the FAA's Aviation Rulemaking Advisory Committee (ARAC) to discuss occupant safety (OS) issues.

DATES: The meeting is scheduled for June 20, 2002, begininig at 8:30 a.m. Arrange for oral presentations by June 14.

ADDRESSES: Boeing Commercial Airplane Group, 535 garden Avenue North, Building 10-16, Room 12-C4, Renton, WA.

FOR FURTHER INFORMATION CONTACT: Effie M. Upshaw, Office of Rulemaking, ARM-209, FAA 800 Independence Avenue, SW., Washington, DC 20591; telephone: (202) 267-7626; fax: (202) 267-5075, or e-mail: effie.upshaw@faa.gov.

SUPPLEMENTARY INFORMATION: Pursuant to section 10(a)(2) of the Federal Advisory Committee Act (Pub. L. 92-463; 5 U.S.C. app. III), notice is given of an ARAC meeting to be held June 20 in Renton, WA.

The agenda will include:

• Opening remarks

• Membership update

• Action Item review

• FAA report

• Joint Aviation Authorities report

• Transport Canada report

• Executive Committee report

• Cabin Safety Harmonization Working Group report

• Draft Terms of Reference for Cabin Environment tasking

• Passenger Safety Card discussion

Attendance is open to the public, but will be limited to the availability of meeting room space and telephone lines. Visitor badges are required to gain entrance to the Boeing building where the meeting is being held. Please confirm your attendance with the person listed in the FOR FURTHER INFORMATION CONTACT section by June 14. Please provide the following information: full legal name, country of citizenship, and name of your company, if applicable.

For those participating by telephone, the call-in number is (206) 655-4990, Passcode 6975#. Details are also available on the ARAC calendar at http://www.faa.gov/avr/arm/araccal/htm. To insure that sufficient telephone lines are available, please notify the person listed in the FOR FURTHER INFORMATION CONTACT section of your intent by June 14. Anyone participating by telephone will be responsible for paying long-distance charges.

The public must make arrangements by June 14 to present oral statements at the meeting. Written statements may be presented to the committee at any time by providing 25 copies to the person listed in the FOR FURTHER INFORMATION CONTACT section or by providing copies at the meeting. Copies of the documents to be presented to ARAC for decision or as recommendations to the FAA may be made available by contacting the person listed in the FOR FURTHER INFORMATION CONTACT section.

If you are in need of assistance or require a reasonable accommodation for the meeting or meeting documents, please contact the person listed in the FOR FURTHER INFORMATION CONTACT section. Sign and oral interpretation, as well as a listening device, can be made available if requested 10 calendar days before the meeting.

Issued in Washinton, DC on May 29, 2002.
Tony F. Fazio,
Director, Office of Rulemaking.

[FR Doc. 02-13967 Filed 6-3-02; 8:45 am]

BILLING CODE 4910-13-M